DEPARTMENT OF THE INTERIOR

National Park Service

[NPS-WASO-NAGPRA-10376; 2200-1100-665]

Notice of Intent To Repatriate Cultural Items: U.S. Department of the Interior, National Park Service, Little Bighorn Battlefield National Monument, Crow Agency, MT

AGENCY: National Park Service, Interior.

ACTION: Notice.

SUMMARY: Little Bighorn Battlefield National Monument (LIBI), in consultation with the appropriate Indian tribes, has determined that the cultural items meet the definition of sacred objects and repatriation to the lineal descendant stated below may occur if no additional claimants come forward. Any other individuals who believe they are lineal descendants of the individual who owned these sacred objects and who wish to claim the items should contact LIBI.

DATES: Any other individuals who believe they are lineal descendants of the individual who owned these sacred objects and who wish to claim the items should contact LIBI at the address below by July 12, 2012.

ADDRESSES: Gus Sanchez, Acting Superintendent, Little Bighorn Battlefield National Monument, P.O. Box 39, Crow Agency, MT 59022-0039, telephone (406) 638-3201.

SUPPLEMENTARY INFORMATION: Notice is here given in accordance with the Native American Graves Protection and Repatriation Act (NAGPRA), 25 U.S.C. 3005, of the intent to repatriate cultural items in the possession of the U.S. Department of the Interior, National Park Service, LIBI, Crow Agency, MT that meet the definition of sacred objects under 25 U.S.C. 3001.

This notice is published as part of the National Park Service's administrative responsibilities under NAGPRA, 25 U.S.C. 3003(d)(3). The determinations in this notice are the sole responsibility of the Superintendent, LIBI.

History and Description of the Cultural Items

The 18 cultural items are part of a medicine bundle and are one satchel made out of animal hide, 13 small medicine bags, and four stones. The items belonged to Spotted Hawk who resided on the Northern Cheyenne Reservation. On August 4, 1930, Cecilia Spotted Wolf, Spotted Hawk's sister, traded or gifted the items to Dr. Thomas B. Marquis, a physician on the Tongue River Reservation (Northern Cheyenne). In 1942, the 18 objects were donated to Custer Battlefield National Cemetery, now known as LIBI, by Dr. Marquis' daughters, Mrs. Millie Ellen Marquis Hastings and Mrs. Anna Rose Octavia Marquis Heil.

Jean Spotted Wolf Emmons, great-grand niece of Spotted Hawk, is requesting repatriation of the 18 cultural items. The medicine bundle is needed by Mrs. Emmons to continue traditional ceremonies. LIBI consulted with the Northern Cheyenne Cultural Commission and Tribal Historic Preservation Office to determine that Jean Emmons is an appropriate recipient under the Northern Cheyenne traditional kinship system and common law system of descendance.

Determinations Made by Little Bighorn Battlefield National Monument

Officials of LIBI have determined that:

• Pursuant to 25 U.S.C. 3001(3)(C), the 18 cultural items described above are specific ceremonial objects needed by traditional Native American religious leaders for the practice of traditional Native American religions by their present-day adherents.

• Pursuant to 25 U.S.C. 3005(a)(5)(A), Mrs. Emmons is the direct lineal descendant of the individual who owned these sacred objects.

Additional Requestors and Disposition

Any other individuals who believe they are lineal descendants of the individual who owned these sacred objects and who wish to claim the items should contact Gus Sanchez, Acting Superintendent, Little Bighorn Battlefield National Monument, P.O. Box 39, Crow Agency, MT 59022-0039, telephone (406) 638-3201, before July 12, 2012. Repatriation of the sacred objects to Mrs. Jean Spotted Wolf Emmons may proceed after that date if no additional claimants come forward.

LIBI is responsible for notifying Mrs. Jean Spotted Wolf Emmons; the Arapaho Tribe of the Wind River Reservation, Wyoming; Assiniboine and Sioux Tribes of the Fort Peck Indian Reservation, Montana; Cheyenne and Arapaho Tribes, Oklahoma (formerly the Cheyenne-Arapaho Tribes of Oklahoma); Cheyenne River Sioux Tribe of the Cheyenne River Reservation, South Dakota; Crow Creek Sioux Tribe of the Crow Creek Reservation, South Dakota; Crow Tribe of Montana; Flandreau Santee Sioux Tribe of South Dakota; Lower Brule Sioux Tribe of the Lower Brule Reservation, South Dakota; Northern Cheyenne Tribe of the Northern Cheyenne Indian Reservation, Montana; Oglala Sioux Tribe of the Pine Ridge Reservation, South Dakota; Rosebud Sioux Tribe of the Rosebud Indian Reservation, South Dakota; Santee Sioux Nation, Nebraska; Sisseton-Wahpeton Oyate of the Lake Traverse Reservation, South Dakota; Spirit Lake Tribe, North Dakota; Standing Rock Sioux Tribe of North & South Dakota; Three Affiliated Tribes of the Fort Berthold Reservation, North Dakota; and the Yankton Sioux Tribe of South Dakota that this notice has been published.

Dated: June 7, 2012.
David Tarler,
Acting Manager, National NAGPRA Program.

[FR Doc. 2012-14311 Filed 6-11-12; 8:45 am]

BILLING CODE 4312-50-P